SURFACE TRANSPORTATION BOARD

[Docket No. AB 1295X]

City of Yelm—Abandonment Exemption—in Thurston and Pierce Counties, Wash.

The City of Yelm (the City) has filed a verified notice of exemption under 49 CFR part 1152 subpart F—Exempt Abandonments to abandon an approximately 4.57-mile railroad line that runs between milepost 20.99, near Roy, Wash., and milepost 25.56, in Yelm, Wash. (the Line). The Line traverses U.S. Postal Service Zip Codes 98597 and 98580.¹

¹ Although the City initially submitted its verified notice on May 5, 2020, it subsequently submitted several supplements, the last of which was submitted on May 21, 2020. As such, that date will be considered the filing date and the basis for all dates in this notice.

The City has certified that: (1) No freight traffic has moved over the Line for two years; (2) any overhead freight traffic on the Line can be rerouted over other lines; (3) no formal complaint filed by a user of rail service on the Line (or a State or local government entity acting on behalf of such user) regarding cessation of service over the Line either is pending with the Surface Transportation Board or any U.S. District Court or has been decided in favor of a complainant within the two-year period; and (4) the requirements at 49 CFR 1105.7 and 1105.8 (notice of environmental and historic report), 49 CFR 1105.12 (newspaper publication), and 49 CFR 1152.50(d)(1) (notice to government agencies) have been met.

Any railroad employees who may be adversely affected by the proposed abandonment will be protected under Oregon Short Line Railroad—Abandonment Portion Goshen Branch Between Firth & Ammon, in Bingham & Bonneville Counties, Idaho, 360 I.C.C. 91 (1979). To address whether this condition adequately protects affected employees, a petition for partial revocation under 49 U.S.C.10502(d) must be filed.

Provided no formal expression of intent to file an offer of financial assistance (OFA) has been received,² the exemption will be effective on July 10, 2020, unless stayed pending reconsideration.³ Petitions to stay that do not involve environmental issues must be filed by June 19, 2020,⁴ and formal expressions of intent to file an OFA under 49 CFR 1152.27(c)(2) and interim trail use/rail banking requests under 49 CFR 1152.29 must be filed by June 22, 2020.⁵ Petitions to reopen or requests for public use conditions must be filed by June 30, 2020, with the Surface Transportation Board, 395 E Street SW, Washington, DC 20423-0001.

² Persons interested in submitting an OFA must first file a formal expression of intent to file an offer, indicating the type of financial assistance they wish to provide (i.e., subsidy or purchase) and demonstrating that they are preliminarily financially responsible. See 49 CFR 1152.27(c)(2)(i).

³ The City states in its verified notice that the proposed consummation date of this transaction is May 1, 2020, but this transaction cannot be consummated until July 10, 2020 (50 days from the May 21, 2020 filing date). See 49 CFR 1152.50(d)(2).

⁴ The Board will grant a stay if an informed decision on environmental issues (whether raised by a party or by the Board's office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁵ Filing fees for OFAs and trail use requests can be found at 49 CFR 1002.2(f)(25) and (27), respectively.

A copy of any petition filed with the Board should be sent to the City's representative, Brent Dille, Dille Law, PLLC, 2010 Caton Way SW, Suite 101, Olympia, WA 98502.

If the verified notice contains false or misleading information, the exemption is void ab initio.

The City has filed a combined environmental and historic report that addresses the potential effects, if any, of the abandonment on the environment and historic resources. OEA will issue a Draft Environmental Assessment (EA) by June 15, 2020. The Draft EA will be available to interested persons on the Board's website, by writing to OEA, or by calling OEA at (202) 245-0305. Assistance for the hearing impaired is available through the Federal Relay Service at (800) 877-8339. Comments on environmental and historic preservation matters must be filed within 15 days after the Draft EA becomes available to the public.

Environmental, historic preservation, public use, or interim trail use/rail banking conditions will be imposed, where appropriate, in a subsequent decision.

Pursuant to the provisions of 49 CFR 1152.29(e)(2), the City shall file a notice of consummation with the Board to signify that it has exercised the authority granted and fully abandoned the Line. If consummation has not been effected by the City's filing of a notice of consummation by June 10, 2021, and there are no legal or regulatory barriers to consummation, the authority to abandon will automatically expire.

Board decisions and notices are available at www.stb.gov.

Decided: June 4, 2020.
By the Board, Allison C. Davis, Director, Office of Proceedings.
Eden Besera,
Clearance Clerk.

[FR Doc. 2020-12504 Filed 6-9-20; 8:45 am]

BILLING CODE 4915-01-P